DEPARTMENT OF DEFENSE

Department of the Army

Notice of Availability for Exclusive, Non-Exclusive, or Partially-Exclusive Licensing of an Invention Concerning Automatic Focused Assessment With Sonography for Trauma Exams

AGENCY: Department of the Army, DoD.

ACTION: Notice.

SUMMARY: Announcement is made of the availability for licensing of the invention set forth in U.S. Provisional Patent Application Serial No. 61/884,630, entitled “Automatic Focused Assessment with Sonography for Trauma Exams,” filed on September 30, 2013. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a method for identifying internal trauma in a patient for pneumothorax, hemothorax and abdominal hemorrhage using ultrasound in B-modes with radial, longitudinal, phased array probes, and with M-mode for verification of lung sliding and lung point.

Brenda S. Bowen,
Army Federal Register Liaison Officer.

[FR Doc. 2014-00149 Filed 1-8-14; 8:45 am]

BILLING CODE 3710-08-P